DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 58431-32, dated October 6, 2005) is amended to reflect the reorganization of the National Immunization Program.

Section C-B, Organization and Functions, is hereby amended as follows:

Revise the functional statement for the Office of the Director (CJ1), National Immunization Program Office (CJ) by inserting after item (12) the following: (13) creates and executes information science and technology strategic plans to provide the Program with related services (e.g., hardware/software consultation, database development and management, etc.) and ensures compliance with CDC IT infrastructure and requirements.

Delete in their entirety the following titles and functional statements of the National Immunization Program Office (CJ):

Data Management Division (CJ2)

Systems Operation and Design Activity (CJ2-2)

Immunization Registry Support Branch (CJ22)

Assessment Branch (CJ23)

Statistical Analysis Branch (CJ24)

Following the title and functional statement for the Health Services Research and Evaluation Branch (CJ46), Immunization Services Division (CJ4), insert the following:

Immunization Registry Support Branch (CJ47). (1) Provides quality assurance for each program study, survey, and surveillance system evaluation of immunization registries at the state and local level to build an infrastructure to raise and sustain immunization coverage in children; (2) facilitates information flow among Program, divisions, grantees, professional organizations, and private contractors regarding immunization registry systems development through regular conference calls, clearinghouse function, up-to-date Web sites, and an annual national conference; (3) establishes complex health and technical functional specifications and standards for immunization registry systems developed by state and local health department personnel and commercial software developers to be used throughout public and private health delivery systems; (4) acts as a catalyst to build the political and professional will and legal environment to facilitate the development and implementation of immunization registries; (5) fosters evidence-based enhancements of immunization registries through on-site standardized evaluations and promoting research that identifies factors associated with system success and failure; (6) promotes the secure, automated exchange of immunization records between immunization registries by fostering consensus on, and implementation of, the required protocols and standards; (7) advocates for immunization registries in the development and maintenance of public health data models and participates in the development of such data models; and (8) formulates long-range plans and proposals for future systems modification, and facilitates the use of standards and expert guidance to assure national and international health information systems are responsive to agency and constituent needs.

Assessment Branch (CJ48). (1) Performs coding and editing, and arranges for data input either in-house or through an outside vendor; (2) collaborates with the National Center for Health Statistics, and other Centers as necessary, in the conduct of household probability surveys, random digit dialing surveys, and other types of surveys to measure immunization coverage; (3) collects, tabulates and analyzes immunization assessment data, including sample survey data, census counts at school entrance, monthly and/or quarterly vaccine administration reports, and the biologic reports from manufacturers; (4) designs sample surveys for epidemiologic investigations fro childhood and adult vaccine-preventable diseases; (5) develops and maintains liaison with external groups regarding assessments; (6) directs the assessment of immunization levels for the national population and specific population sub-segments; (7) determines the most appropriate implementation procedure for data management activities operations for the NIS and NHIS Immunization coverage data; (8) provides documented data sets upon completion of studies and surveys; (9) establishes, implements, monitors, and maintains the standards and procedures for immunization-related data collection for data analysis for NIS data; and (10) establishes and evaluates data quality control measures to assure that all Program studies, surveys, and surveillance systems adhere to the established standards and procedures from data collection to the point of data analysis.

Dated: April 28, 2005.
William H. Gimson,
Chief Operating Officer, Centers for Disease Control and Prevention (CDC).

Editorial Note: This document was received at the Office of the Federal Register October 13, 2005.

[FR Doc. 05-20792 Filed 10-17-05; 8:45 am]

BILLING CODE 4160-18-M